DEPARTMENT OF JUSTICE

Office of Justice Programs

Agency Information Collection Activities: Proposed Collection; Comments Requested; Victimization of People With Disabilities Study

ACTION: Notice of information collection under review; new collection.

The Department of Justice, Office of Justice Programs, Bureau of Justice Statistics, has submitted the following information collection request for review and clearance in accordance with the Paperwork Reduction Act of 1995. This proposed information collection is published to obtain comments from the public and affected agencies. Comments are encouraged and will be accepted until May 21, 2001.

If you have additional comments, suggestions, or need a copy of the proposed information collection instrument with instructions or additional information, please contact Michael Rand, (202) 616-3494, Bureau of Justice Statistics, Office of Justice Statistics, U.S. Department of Justice, 810 7th Street, NW., Washington, DC 20531.

Written comments and suggestions from the public and affected agencies concerning the proposed collection of information should address one or more of the following four points:

(1) Evaluate whether the proposed collection of information is necessary for proper performance of the functions of the agency/component, including whether the information will have practical utility;

(2) Evaluate the accuracy of the agency's/component's estimate of the burden of the collection of information including the validity of the methodology and assumptions used;

(3) Enhance the quality, utility, and clarity of the information to be collected; and

(4) Minimize the burden of the collection of information on those who are to respond, including through the use of appropriate automated electronic, mechanical, or other technological collection techniques or other forms of information technology, e.g., permitting electronic submission of responses.

Overview of This Information

(1) Type of information collection: New Collection.

(2) The title of the form/collection: The Victimization of People With Disabilities Study.

(3) The agency form number, if any, and the applicable component of the department sponsoring the collection: Forms: CDER-1A, CDER-2A, CDER-1B, CDER-2B.

(4) Affected public who will be asked or required to respond, as well as a brief abstract: Primary: Individuals. Other: None. The Victimization of People With Disabilities Study will interview approximately 200 persons with developmental disabilities, age 12 or older, using existing questionnaires and modified questionnaires to test suitability of the standard and modified questionnaires for a population of developmentally disabled individuals. Additionally, this test will evaluate U.S. Bureau of the Census interviewer training program for collecting victimization data from persons with disabilities.

(5) An estimate of the total number of respondents and the amount of time estimated for an average respondent to respond/reply: It is estimated that a total of 300 respondents will respond to a 1 hour interview.

(6) An estimate of the total public burden (in hours) associated with the collection: The estimated burden hours associated with this collection is 180 hours.

If additional information is required, contact: Mrs. Brenda E. Dyer, Deputy Clearance Officer, United States Department of Justice, Information Management and Security Staff, Justice Management Division, National Place, Suite 1220, 1331 Pennsylvania Avenue NW., Washington, D.C. 20530.

Dated: March 15, 2001.
Brenda E. Dyer,
Department Deputy Clearance Officer, United Stated Department of Justice.

[FR Doc. 01-6991 Filed 3-20-01; 8:45 am]

BILLING CODE 4410-18-M